DEPARTMENT OF HEALTH AND HUMAN SERVICES

Administration for Children and Families

Submission for OMB Review; Comment Request

Title: Evaluation of Domestic Human Trafficking Demonstration Projects.

OMB No.: New Collection.

Description: The Administration for Children and Families (ACF), U.S. Department of Health and Human Services (HHS) is proposing a 2-year data collection as part of the “Evaluation of Domestic Human Trafficking Demonstration Projects” study. This notice addresses the cross-site process evaluation to be conducted with the FY 2015 domestic human trafficking demonstration sites funded by the Family and Youth Services Bureau (FYSB).

The objective of the process evaluation is to describe program operations and implementation experience, such as start-up efforts, service provision to a wide array of trafficking victims, collaboration development, training, and sustainability actions. Information from the evaluation will assist federal, state, and community policymakers and funders in laying the groundwork for the refinement of program models to serve domestic victims of human trafficking, as well as evaluation strategies for future programs targeting trafficking victims.

The evaluation of domestic human trafficking demonstration projects will document and describe each site's community and organizational capacity; partnership composition and functioning; comprehensive, victim-centered services; and survivor characteristics, experiences, and outcomes. Primary data for the evaluation will be collected via qualitative interviews, including key informant interviews, case narrative interviews, client interviews, bimonthly telephone interviews, and cost modules (i.e., structured interviews with project directors to collect information on costs). Data will be collected via two site visits per year, during 2016 and 2017. Case narrative interviews will include follow up interviews. Interviews from multiple perspectives will enhance the government's understanding of strategies by which grantees can identify, engage and serve diverse populations of victims of severe forms of human trafficking.

Respondents: Project directors and case managers at the three FY 2015 FYSB funded demonstration projects; staff (e.g., program managers and directors) from partner organizations that are working with the three FY 2015 FYSB-funded demonstration projects; and clients who have received services from the three FY 2015 FYSB-funded demonstration projects.

Annual Burden Estimates
Instrument | Total number of respondents | Annual number of respondents | Number of responses per respondent | Average burden hours per response | Annual burden hours
Project Director Interview | 6 | 3 | 1 | 2 | 6
Case Manger Interview | 30 | 15 | 1 | 1.25 | 19
Partner Interviews | 30 | 15 | 1 | 1.25 | 19
Case Narrative Interview | 30 | 15 | 1 | 1 | 15
Client Interview | 30 | 15 | 1 | 1 | 15
Human Trafficking Evaluation Cost Module/Human Trafficking Evaluation Labor Module | 6 | 3 | 1 | 1 | 3
Bi-monthly Project Director Calls | 6 | 3 | 1 | 6 | 18

Estimated total annual burden hours: 95.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Certifying Officer.

[FR Doc. 2016-05240 Filed 3-8-16; 8:45 am]

BILLING CODE 4184-01-P